DEPARTMENT OF ENERGY

Federal Energy Regulatory Commission

Notice of Application Tendered for Filing With the Commission, Soliciting Additional Study Requests, and Establishing Procedural Schedule for Relicensing and a Deadline for Submission of Final Amendments

September 6, 2005.

Take notice that the following hydroelectric application has been filed with the Commission and is available for public inspection.

a. Type of Application: Subsequent license.

b. Project No.: 1051-012.

c. Date Filed: August 29, 2005.

d. Applicant: Alaska Power & Telephone Company (AP&T).

e. Name of Project: Skagway-Dewey Lakes Project.

f. Location: On Pullen, Dewey, Reid, Icy, and Snyder Creeks within the city limits of Skagway, Alaska. The project does not utilize any Federal lands.

g. Filed Pursuant to: Federal Power Act, 16 U.S.C. 791 (a)-825(r).

h. Applicant Contact: Bob Grimm, AP&T, P.O. Box 3222, Port Townsend, Washington 98368, (360) 385-1733, ext. 120.

i. FERC Contact: Alan Mitchnick, (202) 502-6074 or alan.mitchnick@ferc.gov.

j. Cooperating Agencies: We are asking Federal, State, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for Filing Additional Study Requests and Requests for Cooperating Agency Status: October 28, 2005.

All Documents (Original and Eight Copies) Should Be Filed With: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. Project Description: Water from Reid Falls, Icy Creek, and Snyder Creek is diverted to Lower Dewey Lake, which in turn, flows into Dewey reservoir. The project withdraws water from Dewey reservoir to supply the powerhouse. Existing project features include: the 26-foot-long, 8-foot-high Reid Falls diversion dam that diverts water into a 14-inch-diameter, 1,280-foot-long steel pipeline running to Icy Creek; the 102-foot-long, 5-foot-high Icy Lake dam impounding the 3.4-acre Icy Lake; the 30-foot-long and 3-foot-high Snyder Creek diversion dam that diverts water from Snyder Creek into a diversion channel that conveys water to Lower Dewey Lake; the 629-foot-long, 28-foot-high Lower Dewey Lake dam, impounding the 32.8-acre Lower Dewey Lake; the 132-foot-long, 30-foot-high, Dewey reservoir dam, impounding 2.7 acres; a 300-foot-long canal running between Lower Dewey Lake and Dewey reservoir; three penstocks that run from the Dewey reservoir dam about 1,850 feet to the project's powerhouse that sits adjacent to Pullen Creek within the City of Skagway; and a powerhouse containing four turbines with a total installed capacity of 943 kilowatts. No changes to the project are proposed.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Alaska State Historic Preservation Officer (SHPO), as required by § 106, National Historic Preservation Act, and the regulations of the Advisory Council on Historic Preservation, 36 CFR 800.4.

q. Procedural Schedule and Final Amendments: The application will be processed according to the following Hydro Licensing Schedule. Revisions to the schedule will be made as appropriate.

Issue Deficiency Letter (if needed)

Issue Acceptance letter—October 2005

Issue Scoping Document for comments—November 2005

Request Additional Information (if needed)—January 2005

Notice of application is ready for environmental analysis—April 2006

Notice of the availability of the EA—September 2006

Ready for Commission's decision on the application—December 2006

Final amendments to the application must be filed with the Commission no later than 30 days from the issuance date of the notice of ready for environmental analysis.

Magalie R. Salas,
Secretary.

[FR Doc. E5-4962 Filed 9-9-05; 8:45 am]

BILLING CODE 6717-01-P